Proclamation 10721 of March 29, 2024

Second Chance Month, 2024

By the President of the United States of America

A Proclamation

America was founded on the promise of new beginnings. During Second Chance Month, we recommit to building a criminal justice system that lives up to those ideals so that people returning to their communities from jail or prison have a fair shot at the American Dream.

Every year, more than 650,000 people are released from State and Federal prisons, some leaving with nothing more than a few dollars and a bus ticket to start their new lives. In total, over 70 million Americans have a criminal history record, which can make it hard to secure a steady job, safe housing, affordable health care, or a good education—all important things to have when trying to build a good life. Studies show that when these needs are met, we do not just empower formerly incarcerated people—we prevent crime and make our communities safer.

That is why, last year, my Administration released a comprehensive strategic plan to improve the criminal justice system and strengthen public safety. It includes over 100 concrete actions that my Administration is taking to boost public safety by improving rehabilitation in jails and prisons, helping people rebuild their lives, and reducing unnecessary interactions with the criminal justice system so police officers can focus on fighting crime.

We have also invested nearly $1 billion in job training, addiction recovery, and reentry services across the country, and we have expanded access to Pell Grants so people can earn a college degree while they are incarcerated, starting over with new skills. We are also helping folks find good-paying jobs rebuilding America on projects funded by our historic infrastructure law and expanding opportunities to serve in the Federal Government. We are working to make sure those who have served their time have an equal opportunity to obtain health care, housing, education, and consideration for small business loans. By meeting these needs, we not only empower people to chase their dreams and fuel our economy—we also prevent crime and make our communities safer and stronger.

At the same time, my Administration has taken historic steps to end America's failed approach to marijuana. Incarceration for marijuana possession alone has destroyed too many lives, particularly for Black and brown Americans, who have been arrested, prosecuted, and convicted at higher rates than other racial and ethnic groups. In 2022, I asked the Secretary of Health and Human Services and the Attorney General to start formally reviewing how marijuana is scheduled under Federal law. I have issued categorical pardons for people convicted for simple possession and use under Federal and D.C. law while urging governors to do the same on the State level. It is simple: No one should be in jail or prison for using or possessing marijuana alone. Meanwhile, my Administration has made historic investments to expand access to mental health and substance use services. We have also provided $400 million to prevent juvenile justice involvement and make these systems more responsive to the needs of youth. We have provided over $3 billion in funding for education programs that provide support, services, and interventions, which keep students positively engaged in their schools and communities.

If we pursue this work together, our communities will be safer, stronger, and more just. It will make families and communities whole and help grow our economy, giving everyone a fair chance. I have always believed that our Nation's best days are ahead—and that is true for every single American too. This month, we recommit to fulfilling the fresh promise that every second chance holds.

NOW, THEREFORE, I, JOSEPH R. BIDEN JR., President of the United States of America, by virtue of the authority vested in me by the Constitution and the laws of the United States, do hereby proclaim April 2024 as Second Chance Month. I call upon government officials, educators, volunteers, and all the people of the United States to observe this month with appropriate programs, ceremonies, and activities.

IN WITNESS WHEREOF, I have hereunto set my hand this twenty-ninth day of March, in the year of our Lord two thousand twenty-four, and of the Independence of the United States of America the two hundred and forty-eighth.

[FR Doc. 2024-07194

Filed 4-2-24; 8:45 am]

Billing code 3395-F4-P